DEPARTMENT OF ENERGY

Federal Energy Regulatory Commission

Combined Notice of Filings #1

August 2, 2010.

Take notice that the Commission received the following electric rate filings:

Docket Numbers: ER01-2217-010.

Applicants: Sunrise Power Company, LLC.

Description: Sunrise Power Company, LLC submits additional information supporting the continuation of its Market-based rate authorization.

Filed Date: 06/25/2010.

Accession Number: 20100625-5138.

Comment Date: 5 p.m. Eastern Time on Tuesday, August 24, 2010.

Docket Numbers: ER02-1319-011; ER00-3562-016; ER00-1770-024; ER02-453-014; ER03-446-010; ER04-831-010; ER09-886-004; ER09-1729-002.

Applicants: Calpine Energy Services LP, Zion Energy LLC, Calpine Philadelphia Inc., Calpine Bethlehem, LLC, Calpine Mid-Atlantic Generation, LLC, Calpine Mid Merit, LLC, Calpine New Jersey Generation, LLC, Calpine Vineland Solar, LLC, Calpine Newark Cogen Inc.

Description: Notification of Change in Status of Calpine Bethlehem, LLC, et al.

Filed Date: 07/29/2010.

Accession Number: 20100729-5075.

Comment Date: 5 p.m. Eastern Time on Thursday, August 19, 2010.

Docket Numbers: ER10-1894-002.

Applicants: Wisconsin Public Service Corporation.

Description: Wisconsin Public Service Corporation submits tariff filing per 35: Compliance Filing for WPSR OATT to be effective 7/30/2010.

Filed Date: 07/30/2010.

Accession Number: 20100730-5037.

Comment Date: 5 p.m. Eastern Time on Friday, August 20, 2010.

Docket Numbers: ER10-1901-002.

Applicants: Upper Peninsula Power Company.

Description: Upper Peninsula Power Company submits tariff filing per 35: Compliance Filing for WPSR OATT to be effective 7/30/2010.

Filed Date: 07/30/2010.

Accession Number: 20100730-5039.

Comment Date: 5 p.m. Eastern Time on Friday, August 20, 2010.

Docket Numbers: ER10-1977-001.

Applicants: New York Independent System Operator, Inc.

Description: New York Independent System Operator submits tariff filing per 35.17(b): Errata Filing—IBRT—7/30/10 to be effective 9/30/2010.

Filed Date: 07/30/2010.

Accession Number: 20100730-5067.

Comment Date: 5 p.m. Eastern Time on Friday, August 20, 2010.

Docket Numbers: ER10-2064-000.

Applicants: Southwest Power Pool, Inc.

Description: Southwest Power Pool, Inc. submits its baseline tariff for all Service Agreements, to be effective 7/30/2010.

Filed Date: 07/30/2010.

Accession Number: 20100730-5153.

Comment Date: 5 p.m. Eastern Time on Friday, August 20, 2010.

Docket Numbers: ER10-2065-000.

Applicants: D.E. Shaw Plasma Trading, LLC.

Description: The Shaw Parties submits notification of cancellation of Market-Based Rate Tariffs.

Filed Date: 07/30/2010.

Accession Number: 20100730-0223.

Comment Date: 5 p.m. Eastern Time on Friday, August 20, 2010.

Docket Numbers: ER10-2066-000.

Applicants: Southern Company Services, Inc.

Description: Southern Companies submits a Network Integration Transmission Service Agreement etc. with City of Seneca, SC.

Filed Date: 07/30/2010.

Accession Number: 20100730-0222.

Comment Date: 5 p.m. Eastern Time on Friday, August 20, 2010.

Docket Numbers: ER10-2067-000.

Applicants: D.E. Shaw & Co. Energy, LLC.

Description: The Shaw Parties submits notification of cancellation of Market-Based Rate Tariffs.

Filed Date: 07/30/2010.

Accession Number: 20100730-0223.

Comment Date: 5 p.m. Eastern Time on Friday, August 20, 2010.

Docket Numbers: ER10-2068-000.

Applicants: Delaware City Refining Company LLC.

Description: Delaware City Refining Company LLC submits tariff filing per 35.13(a)(2)(iii: Change-in-Status Notification to be effective 10/1/2010.

Filed Date: 07/30/2010.

Accession Number: 20100730-5170.

Comment Date: 5 p.m. Eastern Time on Friday, August 20, 2010.

Docket Numbers: ER10-2069-000.

Applicants: D.E. Shaw Plasma Power, LLC.

Description: The Shaw Parties submits notification of cancellation of Market-Based Rate Tariffs.

Filed Date: 07/30/2010.

Accession Number: 20100730-0223.

Comment Date: 5 p.m. Eastern Time on Friday, August 20, 2010.

Docket Numbers: ER10-2070-000.

Applicants: Public Service Company of Colorado.

Description: Public Service Company of Colorado submits tariff filing per 35: 2010_07_30_PSCoOATT_Baseline to be effective 7/30/2010.

Filed Date: 07/30/2010.

Accession Number: 20100730-5178.

Comment Date: 5 p.m. Eastern Time on Friday, August 20, 2010.

Docket Numbers: ER10-2071-000.

Applicants: Northern States Power Company, a Minnesota.

Description: Northern States Power Company, a Minnesota corporation submits tariff filing per 35.12: 2010_07_30_NSPM_concurrence_PSCoOATT_Baseline to be effective 7/30/2010.

Filed Date: 07/30/2010.

Accession Number: 20100730-5179.

Comment Date: 5 p.m. Eastern Time on Friday, August 20, 2010.

Docket Numbers: ER10-2072-000.

Applicants: Midwest Independent Transmission System Operator, Inc.

Description: Midwest Independent Transmission System Operator, Inc. submits tariff filing per 35.12: Transmission Owner Agreement to be effective 7/31/2010.

Filed Date: 07/30/2010.

Accession Number: 20100730-5181.

Comment Date: 5 p.m. Eastern Time on Friday, August 20, 2010.

Docket Numbers: ER10-2073-000.

Applicants: Northern States Power Company, a Wisconsin.

Description: Northern States Power Company, a Wisconsin corporation submits tariff filing per 35.12: 2010_07_30_NSPW_concurrence_PSCoOATT_Baseline to be effective 7/30/2010.

Filed Date: 07/30/2010.

Accession Number: 20100730-5183.

Comment Date: 5 p.m. Eastern Time on Friday, August 20, 2010.

Docket Numbers: ER10-2074-000.

Applicants: Kansas City Power & Light Company.

Description: Kansas City Power & Light Company submits tariff filing per 35.12: KCP&L Volume 4 (Market-Based) Baseline Filing to be effective 7/30/2010.

Filed Date: 07/30/2010.

Accession Number: 20100730-5184.

Comment Date: 5 p.m. Eastern Time on Friday, August 20, 2010.

Docket Numbers: ER10-2075-000.

Applicants: Southwestern Public Service Company.

Description: Southwestern Public Service Company submits tariff filing per 35.12: 2010_07_30_SPS_concurrence_PSCoOATT_Baseline to be effective 7/30/2010.

Filed Date: 07/30/2010.

Accession Number: 20100730-5185.

Comment Date: 5 p.m. Eastern Time on Friday, August 20, 2010.

Docket Numbers: ER10-2076-000.

Applicants: Kansas City Power & Light Company.

Description: Kansas City Power & Light Company submits tariff filing per 35.12: KCP&L (OATT) Baseline Filing to be effective 7/30/2010.

Filed Date: 07/30/2010.

Accession Number: 20100730-5186.

Comment Date: 5 p.m. Eastern Time on Friday, August 20, 2010.

Docket Numbers: ER10-2077-000.

Applicants: PBF Power Marketing LLC.

Description: PBF Power Marketing LLC submits tariff filing per 35.13(a)(2)(iii: Change-in-Status Notification to be effective 10/1/2010.

Filed Date: 07/30/2010.

Accession Number: 20100730-5188.

Comment Date: 5 p.m. Eastern Time on Friday, August 20, 2010.

Docket Numbers: ER10-2078-000.

Applicants: White Oak Energy LLC.

Description: White Oak Energy LLC submits tariff filing per 35.12: Application for Market-Based Rate Authorization to be effective 11/10/2010.

Filed Date: 07/30/2010.

Accession Number: 20100730-5192.

Comment Date: 5 p.m. Eastern Time on Friday, August 20, 2010.

Docket Numbers: ER10-2079-000.

Applicants: California Independent System Operator Corporation.

Description: California Independent System Operator Corporation submits tariff filing per 35: 2010-07-30 CAISO Transmission Access Charge Informational Filing to be effective 7/30/2010.

Filed Date: 07/30/2010.

Accession Number: 20100730-5204.

Comment Date: 5 p.m. Eastern Time on Friday, August 20, 2010.

Docket Numbers: ER10-2079-000.

Applicants: California Independent System Operator Corporation.

Description: California Independent System Operator Corporation submits its revised Transmission Access Charges Informational Errata filing.

Filed Date: 08/02/2010.

Accession Number: 20100802-5001.

Comment Date: 5 p.m. Eastern Time on Monday, August 23, 2010.

Docket Numbers: ER10-2080-000.

Applicants: Midwest Independent Transmission System Operator, Inc.

Description: Midwest Independent Transmission System Operator, Inc. submits an executed non-conforming Form of Service Agreement for Real-Time Reserve Services During Phased Integration with Big Rivers Electric Corp.

Filed Date: 08/02/2010.

Accession Number: 20100802-5000.

Comment Date: 5 p.m. Eastern Time on Monday, August 23, 2010.

Docket Numbers: ER10-2081-000.

Applicants: Black Hills Power, Inc.

Description: Black Hills Power, Inc. submits its baseline tariff filing of its market-based rate wholesale power sales tariff pursuant to FERC's Order No 714, to be effective 8/1/2010.

Filed Date: 08/02/2010.

Accession Number: 20100802-5003.

Comment Date: 5 p.m. Eastern Time on Monday, August 23, 2010.

Take notice that the Commission received the following land acquisition reports:

Docket Numbers: LA10-2-000.

Applicants: Order 697-C 2010 2nd Qtr Site Acquisition.

Description: Report of Canandaigua Power Partners LLC, et al.

Filed Date: 07/29/2010.

Accession Number: 20100729-5184.

Comment Date: 5 p.m. Eastern Time on Thursday, August 19, 2010.

Docket Numbers: LA10-2-000.

Applicants: Order 697-C 2010 2nd Qtr Site Acquisition.

Description: Quarterly Land Acquisition Report of Arlington Valley, LLC, et al.

Filed Date: 07/30/2010.

Accession Number: 20100730-5220.

Comment Date: 5 p.m. Eastern Time on Friday, August 20, 2010.

Docket Numbers: LA10-2-000.

Applicants: Order 697-C 2010 2nd Qtr Site Acquisition.

Description: NextEra Energy Companies Second Quarter 2010 Site Control Quarterly Filing.

Filed Date: 07/30/2010.

Accession Number: 20100730-5241.

Comment Date: 5 p.m. Eastern Time on Friday, August 20, 2010.

Docket Numbers: LA10-2-000.

Applicants: Order 697-C 2010 2nd Qtr Site Acquisition.

Description: Duke Energy Corporation 2Q 2010 Change in Status Report Land.

Filed Date: 07/30/2010.

Accession Number: 20100730-5242.

Comment Date: 5 p.m. Eastern Time on Friday, August 20, 2010.

Docket Numbers: LA10-2-000.

Applicants: Order 697-C 2010 2nd Qtr Site Acquisition.

Description: Quarterly Land Acquisition Report of Astoria Generating Company, L.P., et al.

Filed Date: 07/30/2010.

Accession Number: 20100730-5243.

Comment Date: 5 p.m. Eastern Time on Friday, August 20, 2010.

Docket Numbers: LA10-2-000.

Applicants: Order 697-C 2010 2nd Qtr Site Acquisition.

Description: Quarterly Report of Generation Site Acquisitions of AES Alamitos, LLC, et al.

Filed Date: 07/30/2010.

Accession Number: 20100730-5244.

Comment Date: 5 p.m. Eastern Time on Friday, August 20, 2010.

Docket Numbers: LA10-2-000.

Applicants: Order 697-C 2010 2nd Qtr Site Acquisition.

Description: The Shaw Parties submit Notification of Change in Status/Quarterly Report for Second Quarter 2010.

Filed Date: 07/30/2010.

Accession Number: 20100730-5245.

Comment Date: 5 p.m. Eastern Time on Friday, August 20, 2010.

Docket Numbers: LA10-2-000.

Applicants: Order 697-C 2010 2nd Qtr Site Acquisition.

Description: Change in Fact Notice Site Report 2010 Second Quarter of Spring Canyon Energy LLC, et al.

Filed Date: 07/30/2010.

Accession Number: 20100730-5246.

Comment Date: 5 p.m. Eastern Time on Friday, August 20, 2010.

Docket Numbers: LA10-2-000.

Applicants: Order 697-C 2010 2nd Qtr Site Acquisition.

Description: Land Acquisition Report of Iberdrola Renewables, Inc., et al.

Filed Date: 07/30/2010.

Accession Number: 20100730-5247.

Comment Date: 5 p.m. Eastern Time on Friday, August 20, 2010.

Docket Numbers: LA10-2-000.

Applicants: Order 697-C 2010 2nd Qtr Site Acquisition.

Description: Quarterly Land Acquisition Report of ALABAMA ELECTRIC MARKETING, LLC, et al.

Filed Date: 07/30/2010.

Accession Number: 20100730-5248.

Comment Date: 5 p.m. Eastern Time on Friday, August 20, 2010.

Docket Numbers: LA10-2-000.

Applicants: Order 697-C 2010 2nd Qtr Site Acquisition.

Description: Land Acquisition Report (2Q 2010) of Lost Creek Wind, LLC.

Filed Date: 07/30/2010.

Accession Number: 20100730-5251.

Comment Date: 5 p.m. Eastern Time on Friday, August 20, 2010.

Docket Numbers: LA10-2-000.

Applicants: Order 697-C 2010 2nd Qtr Site Acquisition.

Description: Order 697-C Quarterly Non-Material Change in Status Report Compliance Filing of Xcel Energy Services Inc.

Filed Date: 07/30/2010.

Accession Number: 20100730-5252.

Comment Date: 5 p.m. Eastern Time on Friday, August 20, 2010.

Take notice that the Commission received the following qualifying facility filings:

Docket Numbers: QF10-574-000.

Applicants: Rockland Wind Farm, LLC.

Description: Form 556 for Ridgeline Energy LLC's Rockland Wind Farm located in Power County.

Filed Date: 07/13/2010.

Accession Number: 20100713-5050.

Comment Date: 5 p.m. Eastern Time on Thursday, August 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-19525 Filed 8-6-10; 8:45 am]

BILLING CODE 6717-01-P